LEGAL SERVICES CORPORATION

Sunshine Act Meeting Notice; Board of Directors and Four Board Committees

DATE AND TIME: The Legal Services Corporation Board of Directors and four of the Board's Committees will meet on November 30, 2009 in the order set forth in the following schedule. The first meeting will commence at 11 a.m., Eastern Time. Each meeting thereafter will commence promptly upon adjournment of the immediately preceding meeting, with the Audit Committee and the Finance Committee meeting jointly.

LOCATION: Legal Services Corporation, 3333 K Street, NW., Washington, DC 20007, 3rd Floor Conference Center.

PUBLIC OBSERVATION: For all meetings and portions thereof open to public observation, members of the public who are unable to attend but wish to listen to the proceedings may do so by following the telephone call-in directions given below. You are asked to keep your telephone muted to eliminate background noises. From time to time the presiding Chairman may solicit comments from the public.

CALL-IN DIRECTIONS FOR OPEN SESSIONS: • Call toll-free number: 1-866-451-4981;

• When prompted, enter the following numeric pass code: 3899506694;

• When connected to the call, please mute your telephone immediately.

MEETING SCHEDULE:

| Time
1. Joint Meeting of the Audit Committee and Finance Committee. | 11 a.m.
2. Governance & Performance Review Committee. |
3. Search Committee for an Interim LSC President. |
4. Board of Directors. |

Status of Meetings

Open, except as noted below:

• Joint Meeting of the Audit & Finance Committees—A portion of the meeting may be closed to the public pursuant to a vote of the Board of Directors so the committees may consider and perhaps act on recommendations related to how the Corporation may proceed with self-correction of an independent contractor issue and what related actions to take on proposed resolutions concerning LSC's 403(b) Thrift Plan and related provisions of the Employee Handbook. The Committees will also hear a briefing by the Corporation's independent auditors regarding the status of LSC's fiscal year 2009 financial audit and their preliminary findings.¹ A verbatim written transcript will be made of the closed session of the meeting. However, the transcript of any portions of the closed session falling within the relevant provisions of the Government in the Sunshine Act, 5 U.S.C. 552b(c)(2) and (9)(B), and the corresponding provisions of the Legal Services Corporation's implementing regulation, 45 CFR 1622.5(a) and (g), will not be available for public inspection. A copy of the General Counsel's Certification that, in his opinion, the closing is authorized by law will be available upon request.

¹ Any portion of the closed session consisting solely of briefings does not fall within the Sunshine Act definition of the term “meeting” and, therefore, the requirements of the Sunshine Act do not apply to such portion of the closed session. 5 U.S.C. 552b (a)(2) and (b). See also 45 CFR 1622.2 and 1622.3.

• Search Committee for LSC Interim President—A portion of the meeting may be closed to the public pursuant to a vote of the Board of Directors so the committee may consider and perhaps act on a recommendation to make to the full Board as to an Interim President for LSC. A verbatim written transcript will be made of the closed session of the Committee meeting. However, the transcript of any portions of the closed session falling within the relevant provisions of the Government in the Sunshine Act, 5 U.S.C. 552b(c)(6), and the corresponding provisions of the Legal Services Corporation's implementing regulation, 45 CFR 1622.5(e), will not be available for public inspection. A copy of the General Counsel's Certification that in his opinion the closing is authorized by law will be available upon request.

• Board of Directors—A portion of the meeting of the Board of Directors may be closed to the public pursuant to a vote of the Board of Directors to consider and perhaps act on: recommendations on selection of labor counsel to advise and represent the Corporation on union matters; recommendations related to how the Corporation may proceed with self-correction of an independent contractor issue and what related actions to take on the proposed resolutions concerning LSC's 403(b) Thrift Plan and related provisions of the Employee Handbook; and a recommendation on selection of an Interim President for LSC.

A verbatim written transcript will be made of the closed session of the Board meeting. However, the transcript of any portions of the closed session falling within the relevant provisions of the Government in the Sunshine Act, 5 U.S.C. 552b(c)(2), (6) and (9)(B), and the corresponding provisions of the Legal Services Corporation's implementing regulation, 45 CFR 1622.5(a), (e) and (g), will not be available for public inspection. A copy of the General Counsel's Certification that, in his opinion, the closing is authorized by law will be available upon request.

MATTERS TO BE CONSIDERED:

Joint Meeting of Audit Committee & Finance Committee

Agenda

Open Session

1. Approval of agenda.

Closed Session

2. Briefing by the auditing firm performing the annual independent audit of LSC on the status of the fiscal year 2009 audit and any preliminary findings.

3. Consider and act on recommendations to make to the Board related to how the Corporation should proceed with self-correction of an independent contractor issue and what related actions to take on proposed resolutions revising LSC's 403(b) Thrift Plan with regard to the minimum hours requirements for participation and related conforming amendments to the LSC Employee Handbook.

Open Session

4. Consider and act on recommendations to make to the Board related to what actions to take on proposed resolutions revising LSC's 403(b) Thrift Plan with regard to the minimum hours requirements for participation, related conforming amendments to the LSC Employee Handbook, and amendments to the LSC Employee Handbook regarding merger of LSC's TDA and 403(b) thrift plans.

5. Consider and act on recommendation to make to the Board regarding proposed use of the LSC President's discretionary fund.

6. Consider and act on other business.

7. Public comment.

8. Consider and act on motion to adjourn meeting.

Governance and Performance Review Committee

Agenda

Open Session

1. Approval of agenda.

2. Consider and act on performance review of the Inspector General.

3. Consider and act on other business.

4. Public comment.

5. Consider and act on motion to adjourn meeting.

Search Committee for Interim LSC President

Agenda

Open Session

1. Approval of agenda.

Closed Session

2. Consider and act on a recommendation to make to Board as to an interim President for LSC.

Open Session

3. Consider and act on other business.

4. Public Comment.

5. Consider and act on motion to adjourn meeting.

Board of Directors

Agenda

Open Session

1. Approval of agenda.

2. Consider and act on whether to authorize an executive session of the Board to address items listed below under Closed Session.

Closed Session

3. Consider and act on recommendations regarding selection of labor counsel to advise and represent the Corporation on union matters.

4. Consider and act on recommendation as to selection of an interim President for LSC.

5. Consider and act on recommendations related to how the Corporation may proceed with self-correction of an independent contractor issue and related proposed resolutions revising LSC's 403(b) Thrift Plan with regard to the minimum hours requirements for participation and related conforming amendments to the LSC Employee Handbook.

6. Consider and act on the annual performance evaluation of the Inspector General.

Open Session

7. Consider and act on recommendations related to what actions to take on proposed resolutions revising LSC's 403(b) Thrift Plan with regard to the minimum hours requirements for participation, related conforming amendments to the LSC Employee Handbook, and amendments to the LSC Employee Handbook regarding merger of LSC's TDA and 403(b) thrift plans.

8. Public comment.

9. Consider and act on other business.

10. Consider and act on motion to adjourn meeting.

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: November 20, 2009.
Victor M. Fortuno,
Vice President & General Counsel.

[FR Doc. E9-28333 Filed 11-23-09; 11:15 am]

BILLING CODE 7050-01-P